DEPARTMENT OF JUSTICE

Notice of Lodging of Consent Decree Under the Clean Air Act, Clean Water Act, RCRA, and EPCRA

Under 28 CFR 50.7, notice is hereby given that on December 19, 2000, a proposed Complaint and Consent Decree in United States v. Nucor Corporation, Civil Action No. 4-00:3945-24, was lodged with the United States District Court for the District of South Carolina.

This is a national, multi-facility, multi-media enforcement action against Nucor Corporation (“Nucor”), a major manufacturer of steel and steel products. This action is brought pursuant to section 113(b) of the Clean Air Act (“CAA”), 42 U.S.C. 7413(b) (1983), amended by 42 U.S.C. 7413(b) (Supp. 1991); the Resource Conservation and Recovery Act, (“RCRA”), 42 U.S. 6901 et seq.; the Emergency Planning and Community Right to Know Act (“EPCRA”), 42 U.S.C. 11004(a); and the Clean Water Act (“CWA”), 33 U.S.C. 1251 et seq. This settlement involves 8 steel mini-mills and 6 steel fabrication facilities located in Alabama, Arkansas, Indiana, Nebraska, South Carolina, Texas, and Utah, in EPA Regions 4, 5, 6, 7, and 8. The Complaint alleges that Nucor violated the Prevention of Significant Deterioration (“PSD”) and New Source Performance Standard (“NSPS”) provisions of the Clean Air Act and that K061 dust, a waste product from the electric arc furnaces (“EAFs”) and a RCRA listed hazardous waste, was disposed of illegally at the facilities and contributed to National Pollution Discharge Elimination System (“NPDES”) permit and Industrial Storm Water violations of the Clean Water Act. In addition, the Complaint alleges that K061 dust has contaminated soil and groundwater at Nucor's steel mills.

The proposed settlement will require Nucor to pilot air pollution control technologies for control of NOx emissions from its EAFs and reheat furnaces. Nucor will also conduct sampling of ground water and soils at all facilities, identify areas of contamination and perform corrective action in accordance with an EPA-approved RCRA statement of work for each facility. in addition, Nucor will implement enhancements to its management of K061, and its process and storm water to ensure continued compliance with CWA requirements. Nucor will also pay a civil penalty of $9 million, and spend $4 million on Supplemental Environmental Projects. The states of Arkansas, Nebraska, and Utah are joining in this settlement as Plaintiff-Interveners and will share in the civil penalties. The state of South Carolina will also be a signatory to the Consent Decree under a provision of state law that authorizes its participation, however, South Carolina will not file a separate enforcement action and will not share in the civil penalties.

The Department of Justice will receive for a period of thirty (30) days from the date of this publication comments relating to the Consent Decree. Comments should be addressed to the Assistant Attorney General, Environmental and Natural Resources Division, P.O. Box 7611, U.S. Department of Justice, Washington, DC 20044-7611, and should refer to United States v. Nucor Corporation, D.J. Ref. 90-5-2-1-06407/1.

The Consent Decree may be examined at the Office of the United States Attorney, 1st Union Building, 1441 Main Street, Suite 500, Columbia, South Carolina 29201 and at U.S. EPA, Multimedia Enforcement Division, Office of Regulatory Enforcement, 1200 Pennsylvania Ave., NW., Washington, DC 20460. A copy of the Consent Decree may also be obtained by mail from the Consent Decree Library, P.O. Box 7611, U.S. Department of Justice, Washington, DC 20044-7611. In requesting a copy, please enclose a check in the amount of $60.25 (25 cents per page reproduction cost) payable to the Consent Decree Library.

Bruce Gelber,
Chief, Environmental Enforcement Section, Environment and Natural Resources Division.

[FR Doc. 01-919 Filed 1-10-01; 8:45 am]

BILLING CODE 4410-15-M